DEPARTMENT OF ENERGY

Federal Energy Regulatory Commission

[Project No. 2589-024—Michigan Marquette Project]

Marquette Board of Power and Light; Notice of Proposed Restricted Service List for a Programmatic Agreement for Managing Properties Included in or Eligible for Inclusion in the National Register of Historic Places

July 19, 2002.

Rule 2010 of the Federal Energy Regulatory Commission's (Commission) Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹ 18 CFR 385.2010.

The Commission staff is consulting with the Michigan State Historic Preservation Officer (hereinafter, SHPO) and the Advisory Council on Historic Preservation (hereinafter, Advisory Council) pursuant to the Council's regulations, 36 CFR part 800, implementing section 106 of the National Historic Preservation Act, as amended, (16 U.S.C. 470f), to prepare a Programmatic Agreement for managing properties included in, or eligible for inclusion in, the National Register of Historic Places at Project No. 2589-024.

The Programmatic Agreement, when executed by the Commission, the SHPO, and the Advisory Council, would satisfy the Commission's Section 106 responsibilities for all individual undertakings carried out in accordance with the license until the license expires or is terminated (36 CFR 800.13[e]). The Commission's responsibilities pursuant to Section 106 for the project would be fulfilled through the Programmatic Agreement, which the Commission staff proposes to draft in consultation with certain parties listed below. The executed Programmatic Agreement would be incorporated into any license issued.

Marquette Board of Power and Light, as prospective licensee for Project No. 2589-024, is invited to participate in consultations to develop the Programmatic Agreement and to sign as a concurring party to the Programmatic Agreement. For purposes of commenting on the Programmatic Agreement, we propose to restrict the service list for Project No. 2589-024 as follows:

Dr. Laura Henley Dean, Advisory Council on Historic Preservation, The Old Post Office Building, Suite 803, 1100 Pennsylvania Avenue, NW., Washington, DC 20004.

David Hickey, City of Marquette, Board of Light and Power, 2200 Wright Street, Marquette, MI 49855-1366.

Robert J. Meyers, Supervisor—Hydros, Upper Peninsula Power Company, PO Box 537, Ishpeming, MI 49849-0537.

Brian D. Conway, SHPO, Michigan Historical Center, 717 West Allegan Street, Lansing, MI 48909.

Robert Powless, Tribal Historic Preservation Officer, Bad River Band of Lake Superior Chippewa Indians, P.O. Box 39, Odanah, WI 54861.

George Beck, Tribal Historic Preservation Officer, Lac Vieux Desert Band of Lake Superior Chippewa Indians, P.O. Box 249, Watersmeet, MI 49969.

Mary Manydeeds, Bureau of Indian Affairs, Midwest Regional Office, One Federal Drive, Room 550, Ft. Snelling, MN 55111.

Any person on the official service list for the above-captioned proceedings may request inclusion on the restricted service list, or may request that a restricted service list not be established, by filing a motion to that effect within 15 days of this notice date. An original and 8 copies of any such motion must be filed with the Secretary of the Commission (888 First Street, NE., Washington, DC 20426) and must be served on each person whose name appears on the official service list. If no such motions are filed, the restricted service list will be effective at the end of the 15 day period. Otherwise, a further notice will be issued ruling on the motion.

Linwood A. Watson, Jr.,
Deputy Secretary.

[FR Doc. 02-18835 Filed 7-24-02; 8:45 am]

BILLING CODE 6717-01-P